DEPARTMENT OF COMMERCE

International Trade Administration

Announcement of Approved International Trade Administration Business Development Mission

AGENCY: International Trade Administration, Department of Commerce.

SUMMARY: The United States Department of Commerce, International Trade Administration (ITA), is announcing one upcoming business development mission that will be recruited, organized, and implemented by ITA. This mission is: U.S. Aerospace & Defense Trade Mission to Denmark and Sweden—October 21-24, 2024. A summary of the mission is found below. Application information and more detailed mission information, including the commercial setting and sector information, can be found at the trade mission website: https://www.trade.gov/trade-missions. For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Events Management Task Force, International Trade Administration, U.S. Department of Commerce, 1401 Constitution Avenue NW, Washington, DC 20230; telephone: (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that are adequate to allow the Department of Commerce to evaluate their application. If the Department of Commerce receives an incomplete application, the Department of Commerce may either: reject the application, request additional information/clarification, or take the lack of information into account when evaluating the application. If the requisite minimum number of participants is not selected for a particular mission by the recruitment deadline, the mission may be canceled.

Each applicant must also certify that the products and services it seeks to export through the mission are either produced in the United States, or, if not, are marketed under the name of a U.S. firm and have at least 51% U.S. content by value. In the case of a trade association or organization, the applicant must certify that, for each firm or service provider to be represented by the association/organization, the products and/or services the represented firm or service provider seeks to export are either produced in the United States or, if not, are marketed under the name of a U.S. firm and have at least 51% U.S. content by value.

A trade association/organization applicant must certify and agree to the above for every company it seeks to represent on the mission. In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission.

Balance of applicant's size and location may also be considered during the review process. Referrals from a political party or partisan political group or any information, including on the application, containing references to political contributions or other partisan political activities will be excluded from the application and will not be considered during the selection process. The sender will be notified of these exclusions.

Definition of Small and Medium-Sized Enterprise

For purposes of assessing participation fees, an applicant is a small and medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Mission List: (additional information about trade missions can be found at https://www.trade.gov/trade-missions).

U.S. Aerospace & Defense Trade Mission to Denmark and Sweden—October 21-24, 2024

Summary

The United States Department of Commerce, International Trade Administration (ITA), is organizing a Trade Mission to Denmark and Sweden, October 21-24, 2024.

The objectives for this mission are to give U.S. companies an opportunity to provide aerospace and defense equipment, technology, and services to Denmark and Sweden, and to advance U.S. national interests. Participating U.S. firms will gain market insights, make industry contacts, solidify business strategies, and advance specific projects, with the goal of increasing U.S. exports and services in the aerospace and defense sectors.

The mission will introduce U.S. firms to aerospace and defense stakeholders in the region and assist U.S. companies in developing business in Denmark and Sweden.

The mission will include meetings with government officials and industry leaders, networking events, presentations and site visits to an Aerospace/Defense Production Facilities or an R&D Center. For companies new to the market, this will be an opportunity to make initial contacts and learn more about the large defense market in Northern Europe.

DENMARK, Copenhagen and SWEDEN, Stockholm

Aerospace and defense markets in the Nordic region are likely to grow in 2024 and beyond, creating opportunities for U.S. aerospace and defense manufacturers to increase their exports to markets in Northern Europe. The governments of Sweden and Denmark have committed to updating and improving their domestic defense capabilities. This mission supports NATO's efforts to defend Northern Europe and Ukraine coupled with the goals of the 2022 National Defense Strategy to build the strongest possible coalition to enhance our collective influence to shape the global strategic environment.

According to the Military Expenditure Database from Stockholm International Peace Research Institute (SIPRI), for 20 years, Sweden and Denmark have spent annually the equivalent of between 1% and 2% of their GDPs on military expenditures. As a current NATO ally, Denmark has pledged to spend a minimum of 2% of its GDP on national defense but has not yet satisfied this pledge. Sweden just joined NATO in 2024, and the country's 2024 budget surpassed NATO's target of 2% of GDP on defense spending and NATO's guideline to allocate 20% of defense expenditures to equipment spending, including research and development, offering potential opportunities for U.S. defense exporters. Sweden has historically emphasized cutting edge technology and innovation and Defense Minister Pål Jonson has announced that a defense innovation strategy will be released during 2024. Sweden and Denmark membership in NATO establishes the Baltic Sea almost entirely within NATO's domain, with related requirements for air and missile defense; air and sub-sea dominance; intelligence, surveillance, and reconnaissance (including uncrewed systems) and warfighter mission training/readiness.

European NATO allies have faced greater pressure from the United States to increase defense spending since the start of Russia's war of aggression in Ukraine. The Biden Administration will use the NATO Summit in July 2024 to encourage European allies to expedite their plans to meet their defense spending pledges and bolster NATO's deterrence in Europe. These geopolitical developments could create opportunities for U.S. companies in the aerospace and defense industry to partner with Nordic allies. In some cases, Nordic countries may transfer or donate defense technology to Ukraine, creating gaps in their domestic arsenals. Swedish leaders envision Sweden as a NATO net-contributor with a strong presence in the Nordic-Baltic region and within NATO's command structure. Sweden's geostrategic importance, advanced military capabilities, strong defense industrial base, commitment to democratic values and transatlantic ties, and bolstered defense spending makes it a formidable ally. Sweden values its reputation as a peace-broker and compromise-finder.

According to U.S. aerospace and defense data on bilateral trade with the Nordic region, 2022 defense exports increased to a record $710 million (likely due to the war in Ukraine) but decreased slightly in 2023. In the same years, the value of U.S. aerospace exports reached $1.4 billion and $1.9 billion, respectively. Non-defense aerospace exports to the Nordic countries are largely comprised of civilian aircraft, engines, and parts, including turbojet/turboprop parts and gas turbine parts, presenting an opportunity for U.S. aerospace parts manufacturers and MRO suppliers to expand business in northern Europe.

In January 2024, the Government of Denmark presented a plan to spend approximately $2.3 billion on more military equipment and personnel under its new defense legislation. The Danish Ministry of Defense will acquire short-range air defense systems for the Danish Army to increase protection against air threats (with no known U.S. bidders at this time). It also hopes to acquire long endurance uncrewed systems (drones) for surveillance and intelligence gathering, close air defense missiles for its Navy frigates, and torpedoes for Navy frigates and Air Force Sea Hawk helicopters. Denmark is also a Tier III participant in the F-35 program and will acquire 27 F-35s for its air force. In its 2021 National Defense Industrial Strategy and Action Plan, Denmark outlined its interest in integrating its defense supply chains with the U.S. companies, specifically in support of the F-35 program. Denmark has also sought to expand partnerships with U.S. prime defense contractors and grow its domestic defense industry.

In December 2023, the United States and Sweden signed a Defense Cooperation Agreement (DCA) which regulates the legal status of U.S. forces, access to deployment areas, and pre-positioning of military materiel in Sweden. While the agreement does not contain provisions for industrial cooperation, it advances efforts for the U.S. and Swedish militaries to share capabilities, develop new technology together, and achieve interoperability. As a new member of NATO, Sweden intends to spend more on defense in 2024, with a budget bill that includes investments in artillery systems, tactical transport aircraft, naval vessels and surface combatants, electronic warfare, military fixed-wing aircraft, tactical communication systems and Blekinge-class submarines. Sweden has also stated it will contribute to the NATO Innovation Fund (NIF) and Defense Innovation Accelerator for the North Atlantic (DIANA).

Other Products and Services

The foregoing analysis of the aerospace and defense opportunities in Sweden and Denmark is not intended to be exhaustive, but illustrative of the many opportunities available to U.S. businesses. Applications from companies selling products or services within the scope of this mission, but not specifically identified, will be considered and evaluated by the U.S. Department of Commerce. Companies whose products or services do not fit the scope of the mission may contact their local U.S. Export Assistance Center (USEAC) to learn about other business development missions and services that may provide more targeted export opportunities. Companies may go to http://trade.gov to obtain such information.

Mission Goals

The goals of the trade mission are to create opportunities for U.S. companies to showcase their defense and aerospace equipment to Denmark and Sweden's defense, security, and law enforcement authorities, to introduce U.S. firms to aerospace and defense stakeholders in the region, to create opportunities for U.S. companies to find foreign business partners, to develop stronger industry relationships, and to advance U.S. national interests. Participants in this mission will have an opportunity to connect with senior-level Danish and Swedish officials in a setting that facilitates progress on business development projects. For companies new to the market, this will be an opportunity to make initial contacts, learn more about aerospace and defense opportunities in northern Europe, and gain perspective from ITA on specific challenges for U.S. businesses operating in the region. By participating in an official U.S. industry delegation, rather than traveling to the region individually, U.S. industry representatives will enhance their ability to secure meetings and gain greater exposure to the region, as well as leverage the networks of industry buyers, distributors, and industry stakeholders developed by commercial specialists.

This mission will:

• Strengthen connections between U.S. companies and Danish and Swedish aerospace and defense companies, leveraging the U.S. Government and coordinating trade mission activities to maximize the potential for participating U.S. businesses to expand their business and exports to Sweden and Denmark, key NATO allies.

• Develop stronger industry relationships between U.S. and Swedish and Danish firms to strengthen the relationship between three NATO partners and enhance U.S. economic, national security, and defense goals in the region.

• Connect participants with senior-level Swedish and Danish officials in a setting that facilitates progress on business development projects. For companies new to the market, this will be an opportunity to make initial contacts and learn more about two key markets in Northern Europe.

• For the U.S. government, this is an unparalleled opportunity to strengthen our relationship with Denmark's and Sweden's Ministries of Defense to showcase the technology, know-how, and capabilities we have to offer, and demonstrate our interest in partnering with both countries to increase their national security and defense efforts.

The mission will travel to Copenhagen, Denmark and Stockholm, Sweden, with companies arriving in Copenhagen on Sunday, October 20, 2024. Companies and staff will meet informally for an optional no-host welcome dinner. In each of the two mission stops, participants will receive a presentation display table, listen to an embassy briefing, attend networking breaks, attend two roundtables with industry officials and business contacts, present their companies capabilities during company pitch sessions and attend an Ambassador reception. U.S. Commercial Service staff will be on-site and available to provide market information and offer logistical assistance to mission participants. Each location will offer an industry site visit as well.

Proposed Timetable
[*Note: The final schedule and potential site visits will depend on the availability of the host government and business officials, specific goals of mission participants, and ground transportation]
Sunday October 20 | • Trade Mission Participants Arrive; informal no-host dinner and excursion. • Kronberg Castle Excursion (Optional).
Monday October 21 | • Company Introductions, U.S. Embassy Briefing and Q&A. • Office of Defense Cooperation, Political Section, U.S. Commercial Service, Economic Section. • Networking/Coffee. • Roundtable 1. • Lunch/Briefing. • Roundtable 2. • Networking. • Company pitches. • Ambassador reception.
Tuesday October 22 | • Site visit. • Travel to Stockholm. • Optional no host diner.
Wednesday October 23 | • Company Introductions, U.S. Embassy Briefing and Q&A. • Office of Defense Cooperation, Political Section, U.S. Commercial Service, Economic Section. • Networking/Coffee. • Roundtable 1. • Lunch/Briefing. • Roundtable 2. • Networking. • Company pitches. • Ambassador reception.
Thursday October 24 | • Site visit. • Program concludes.
Friday, October 25 | • Return to U.S.

Participation Requirements

All parties interested in participating in the trade mission must complete and submit an application package for consideration by the Department of Commerce. All applicants will be evaluated on their ability to meet certain conditions and best satisfy the selection criteria as outlined below. A minimum of 7 and a maximum of 12 firms and/or trade associations will be selected to participate in the mission from the applicant pool.

Fees and Expenses

After a firm or trade association has been selected to participate in the mission, a payment to the Department of Commerce in the form of a participation fee is required. The participation fee for the U.S. Aerospace & Defense Trade Mission to Denmark and Sweden will be $4,545.00 for small or medium-sized enterprises (SME); ¹ and $6,410.00 for large firms or trade associations. The fee for each additional firm representative (large firm or SME/trade organization) is $1,250.00. Expenses for travel, lodging, meals, and incidentals will be the responsibility of each mission participant. Interpreter and driver services can be arranged for additional cost. Delegation members will be able to take advantage of U.S. Embassy rates for hotel rooms.

¹ For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

If and when an applicant is selected to participate on a particular mission, a payment to the Department of Commerce in the amount of the designated participation fee below is required. Upon notification of acceptance to participate, those selected have 5 business days to submit payment or the acceptance may be revoked.

Participants selected for a business development mission will be expected to pay for the cost of personal expenses, including, but not limited to, international travel, lodging, meals, transportation, communication, and incidentals, unless otherwise noted. Participants will, however, be able to take advantage of U.S. Embassy rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Business Development Mission members participate in missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Travel and in-person activities are contingent upon the safety and health conditions in the United States and the mission economies. Should safety or health conditions not be appropriate for travel and/or in-person activities, the Department will consider postponing the event or offering a virtual program in lieu of an in-person agenda. In the event of a postponement, the Department will notify the public, and applicants previously selected to participate in this mission will need to confirm their availability but need not reapply. Should the decision be made to organize a virtual program, the Department will adjust fees accordingly, prepare an agenda for virtual activities, and notify the previously selected applicants with the option to opt-in to the new virtual program.

Timeframe for Recruitment and Applications

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than July 12, 2024. The U.S. Department of Commerce will review applications and inform applicants of selection decisions on a rolling basis. Applications received after July 12, 2024, will be considered only if space and scheduling constraints permit.

Contacts

Trade Mission Lead

Diane Mooney, Director, U.S. Commercial Service—Seattle, WA, 206-553-7251, Diane.Mooney@trade.gov

U.S. Based Recruitment Lead

April Redmon, Director, U.S. Commercial Service—Virginia/DC, 703-235-0103, April.Redmon@trade.gov

Erik Hunt, Senior International Trade Specialist, U.S. Commercial Service—Indianapolis, IN, Erik.Hunt@trade.gov

Jason Sproule, Aerospace & Defense Global Team Leader, Commercial Service Los Angeles, 949-283-0690, Jason.Sproule@trade.gov

Kim Wells, Aerospace Team Leader, ITA, Industry & Analysis—Washington, DC, Kim.Wells@trade.gov

Marianne Drain, Senior Commercial Officer, U.S. Embassy Sweden, Marianne.Drain@trade.gov

Johan Bjorkman, Commercial Specialist, U.S. Embassy Sweden, Johan.Bjorkman@trade.gov

Tuula Ahlstrom, Commercial Specialist, U.S. Embassy Sweden, Tuula.Ahlstrom@trade.gov

Christopher Wilken, Senior Commercial Officer, U.S. Embassy Denmark, Christopher.Wilken@trade.gov

Aleksander Moos, Commercial Specialist, U.S. Embassy Denmark, Aleksander.Moos@trade.gov

Gemal Brangman,
Director, Global Trade Programs.

[FR Doc. 2024-14976 Filed 7-8-24; 8:45 am]

BILLING CODE P